DEPARTMENT OF HEALTH AND HUMAN SERVICES

Food and Drug Administration

Requests for Proposals for Insulin Reimportation and Personal Prescription Drug Importation

AGENCY: Department of Health and Human Services (HHS), Food and Drug Administration (FDA).

ACTION: Notice; requests for proposals.

SUMMARY: On September 24, 2020, the Department issued two requests for proposals for the reimportation of insulin and the personal importation of prescription drugs on its website. The Department is issuing this Notice to include a revised version of the September 24, 2020 proposals in the Federal Register.

DATES: Proposals submitted in response to the requests for proposals shall be accepted and reviewed on a rolling basis, and until further notice.

ADDRESSES: Responses to the requests for proposals should be submitted to import@hhs.gov.

FOR FURTHER INFORMATION CONTACT: Nick Uehlecke, 200 Independence Ave SW, Washington, DC 20201; or by email at import@hhs.gov; or by telephone at 1-877-696-6775.

SUPPLEMENTARY INFORMATION: On September 24, 2020, the Department issued two requests for proposals for the reimportation of insulin and the personal importation of prescription drugs on its website. The proposals were issued consistent with FDA's authorities under sections 801 and 804 of the Food, Drug, and Cosmetic Act, 21 U.S.C. 381, 384. The Department is issuing this Notice to include revised versions of these proposals in the Federal Register.

Dated: January 13, 2021.
Alex M. Azar II,
Secretary, Department of Health and Human Services.

[FR Doc. 2021-01125 Filed 1-19-21; 8:45 am]

BILLING CODE 4150-26-P